DEPARTMENT OF COMMERCE

Foreign-Trade Zones Board

[B-35-2015]

Foreign-Trade Zone (FTZ) 54—Clinton County, New York; Authorization of Production Activity; Swarovski Lighting, Ltd.; (Lighting Fixtures and Parts) Plattsburgh, New York

On May 15, 2015, the Clinton County Area Development Corporation, grantee of FTZ 54, submitted a notification of proposed production activity to the FTZ Board on behalf of Swarovski Lighting, Ltd., within FTZ 54, in Plattsburgh, New York.

The notification was processed in accordance with the regulations of the FTZ Board (15 CFR part 400), including notice in the Federal Register inviting public comment (80 FR 30659-30660, 05/29/2015). The FTZ Board has determined that no further review of the activity is warranted at this time. The production activity described in the notification is authorized, subject to the FTZ Act and the Board's regulations, including Section 400.14.

Dated: September 11, 2015.
Andrew McGilvray,
Executive Secretary.

[FR Doc. 2015-23642 Filed 9-18-15; 8:45 am]

BILLING CODE 3510-DS-P